DEPARTMENT OF HEALTH AND HUMAN SERVICES

Centers for Disease Control and Prevention

Draft Guideline for Prevention of Catheter-Associated Urinary Tract Infections 2008

AGENCY: Centers for Disease Control and Prevention (CDC), Department of Health and Human Services (DHHS).

ACTION: Notice of document availability and request for public comment.

SUMMARY: This notice is a request for review of and comment on the Draft Guideline for Prevention of Catheter-Associated Urinary Tract Infections 2008, available on the following Web site: http://wwwnd.cdc.gov/publiccomments/. This document is for use by infection prevention staff, healthcare epidemiologists, healthcare administrators, nurses, other healthcare providers, and persons responsible for developing, implementing, and evaluating infection prevention and control programs for healthcare settings across the continuum of care. The guideline updates and expands the 1981 Guideline for Prevention of Catheter-associated Urinary Tract Infections.

DATES: Comments must be received on or before July 6, 2009.

ADDRESSES: Comments on the Draft Guideline for Prevention of Catheter-Associated Urinary Tract Infections should be submitted by e-mail to cauti@cdc.gov or by mail to CDC, Division of Healthcare Quality Promotion, Attn: Resource Center, 1600 Clifton Rd., NE., Mailstop A-31, Atlanta, Georgia 30333; or by fax 404-639-4049.

SUPPLEMENTARY INFORMATION: The Draft Guideline for Prevention of Catheter-Associated Urinary Tract Infections addresses prevention of CAUTI for patients in need of either short- or long-term urinary catheterization in any type of healthcare setting and includes data for indwelling urethral catheterization as well as alternative methods of urinary drainage. The guideline also includes specific recommendations for implementation, performance measurement, and surveillance. Recommendations for further research are also included to address the knowledge gaps in CAUTI prevention identified during the literature review. The guideline is based on a targeted systematic review of the best available evidence with explicit links between the evidence and recommendations.

Dated: May 21, 2009.
James D. Seligman,
Chief Information Officer, Centers for Disease Control and Prevention.

[FR Doc. E9-12901 Filed 6-2-09; 8:45 am]

BILLING CODE 4163-18-P